DEPARTMENT OF ENERGY

Federal Energy Regulatory Commission

[Docket No. EC02-81-000, et al.]

Baconton Power LLC, et al.; Electric Rate and Corporate Regulation Filings

July 1, 2002.

The following filings have been made with the Commission. The filings are listed in ascending order within each docket classification.

1. Baconton Power LLC

[Docket No. EC02-81-000]

Take notice that on June 26, 2002, Baconton Power LLC (Baconton), filed with the Federal Energy Regulatory Commission (Commission), an application pursuant to sections 203 of the Federal Power Act, 16 U.S.C. 824b and part 33 of the Commission's regulations, 18 CFR part 33. Baconton requests authorization for an upstream restructuring of ownership of Baconton that will result in an indirect transfer control over Baconton and its jurisdictional facilities. Baconton also notifies the Commission regarding a change in the conditions existing at the time the Commission approved its market-based rate authority.

Comment Date: July 17, 2002.

2. American National Wind Power, Inc. and FPL Energy Green Mountain, LLC

[Docket No. EC02-82-000]

Take notice that on June 26, 2002, American National Wind Power, Inc. and FPL Energy Green Mountain, LLC (FPLE Green Mountain) tendered for filing with the Federal Energy Regulatory Commission (Commission), an application requesting all necessary authorizations under section 203 of the Federal Power Act for the sale by American National Wind Power, Inc. to FPLE Green Mountain of American National Wind Power, Inc.'s interest (indirectly through an affiliate) in a 10.4 MW wind-powered electric generating facility in Somerset County, Pennsylvania and a power sales contract.

Comment Date: July 17, 2002.

3. Sithe Energies, Inc.

[Docket No. EC02-83-000]

Take notice that on June 26, 2002, Sithe Energies, Inc. (Sithe) and Exelon Generation Company, LLC (Exelon Generation) (collectively, Applicants) filed with the Federal Energy Regulatory Commission (Commission), a joint application under section 203 of the Federal Power Act, requesting all authorizations necessary to transfer an indirect interest in certain jurisdictional facilities from Sithe to Exelon Generation. Sithe is engaged primarily, through various subsidiaries, in the development and operation of non-utility generation facilities. Exelon Generation is a public utility which owns and operates electric generating facilities and engaged in wholesale power and energy marketing and trading operations in the United States. Applicants state that the transaction will have no adverse effect on competition, rates or regulation.

Comment Date: August 26, 2002.

4. SOWEGA Power LLC

[Docket Nos. EC02-84-000 and ER99-3427-001]

Take notice that on June 26, 2002, SOWEGA Power LLC (SOWEGA), filed with the Federal Energy Regulatory Commission (Commission), an application pursuant to sections 203 of the Federal Power Act, 16 U.S.C. 824b and part 33 of the Commission's regulations, 18 CFR part 33. SOWEGA requests authorization for an upstream restructuring of ownership of SOWEGA Energy Resources, LLC (SER), SOWEGA's parent, that will result in an indirect transfer control over SOWEGA and its jurisdictional facilities. SOWEGA also informs the Commission of a change in the facts relied upon in granting its market-based rate authority as a result of the upstream change in control

Comment Date: July 17, 2002.

5. New England Power Pool

[Docket No. ER02-1755-001]

Take notice that on June 24, 2002, the New England Power Pool (NEPOOL) Participants Committee submitted in the above-captioned docket a supplemental filing amending its May 7, 2002 filing which requested that the Robert E. McLaughlin Trust (the Trust) be accepted for membership in NEPOOL. The supplemental filing requests that the May 7 filing be amended to reflect the request that the Trust be accepted for membership in NEPOOL as a Governance Only End User.

The NEPOOL Participants Committee states that copies of these materials were sent to all persons identified on the service list in the above-captioned docket.

Comment Date: July 15, 2002.

6. Southern California Edison Company

[Docket No. ER02-2136-000]

Take notice that on June 21, 2002, Southern California Edison Company (SCE) tendered for filing with the Federal Energy Regulatory Commission (Commission), a Notice of Cancellation of the Transmission Service Agreement between SCE and PacifiCorp (collectively, Parties) and all supplements thereto.

Comment Date: July 12, 2002.

7. Rowan County Power, LLC

[Docket No. ER02-2137-000]

Take notice that on June 21, 2002, Rowan County Power, LLC (Rowan County) tendered for filing an executed Service Agreement between Rowan County and the following eligible buyer, Progress Ventures, Inc. Service to this eligible buyer will be in accordance with the terms and conditions of Rowan County's Market-Based Rates Tariff, FERC Electric Tariff No. 1.

Rowan County requests an effective date of May 21, 2002 for this Service Agreement. Copies of the filing were served upon the North Carolina Utilities Commission and the South Carolina Public Service Commission.

Comment Date: July 12, 2002.

8. PECO Energy Company

[Docket No. ER02-2138-000]

Take notice that on June 21, 2002 PECO Energy Company (PECO) submitted for filing a third Construction Agreement between PECO and Old Dominion Electric Cooperative (ODEC) related to the Rock Springs Electric Generation Facility, designated as Service Agreement 683 under PJM Interconnection L.L.C.'s (PJM) FERC Electric Tariff Fourth Revised Volume No. 1, to be effective on June 10, 2002. Copies of this filing were served on ODEC and PJM.

Comment Date: July 12, 2002.

9. Ameren Services Company

[Docket No. ER02-2139-000]

Take notice that on June 21, 2002 , Ameren Services Company (ASC) tendered for filing a Firm Point-to-Point Transmission Service Agreement between ASC and Illinois Power. ASC asserts that the purpose of the Agreement is to replace the Agreement in Docket No. ER 02-889-000 with a revised Agreement.

Comment Date: July 12, 2002.

10. Millennium Power Partners, L.P.

[Docket No. ER02-2140-000]

Take notice that on June 21, 2002, Millennium Power Partners, L.P. (Millennium) tendered for filing a Power Purchase Agreement for power sales (Agreement) with PG&E Energy Trading-Power, L.P. (PGET) pursuant to which Millennium will sell electric wholesale services to PGET at market-based rates according to its FERC Electric Tariff, Original Volume No. 1.

Comment Date: July 12, 2002.

11. Xcel Energy Services, Inc.

[Docket No. ER02-2141-000]

Take notice that on June 24, 2002, Xcel Energy Services, Inc. (XES), on behalf of Southwestern Public Service Company (Southwestern), submitted for filing a Master Power Purchase and Sale Agreement between Southwestern and Colorado Springs Utilities (Colorado Springs), which is in accordance with Southwestern's Rate Schedule for Market-Based Power Sales (Southwestern FERC Electric Tariff, Second Revised Volume No. 3).

XES requests that this agreement become effective on June 12, 2002.

Comment Date: July 15, 2002.

12. Powerroots, LLC.

[Docket No. ER02-2142-000]

Take notice that on June 24, 2002, Powerroots, LLC. (Powerroots) petitioned the Federal Energy Regulatory Commission (Commission) for acceptance of Powerroots Rate Schedule FERC No. 1; the granting of certain blanket approvals, including the authority to sell electricity at market-based rates; and the waiver of certain Commission regulations.

Powerroots intends to engage in wholesale electric power and energy purchases and sales as a marketer. Powerroots is not in the business of generating or transmitting electric power.

Comment Date: July 15, 2002.

13. Duke Electric Transmission

[Docket No. ER02-2143-000]

Take notice that on June 24, 2002, Duke Electric Transmission (Duke) a division of Duke Energy Corporation, tendered for filing with the Federal Energy Regulatory Commission (Commission), a Service Agreement with PG&E Energy Trading-Power L.P., for Firm Transmission Service under Duke's Open Access Transmission Tariff. Duke requests that the proposed Service Agreement be permitted to become effective on May 16, 2002. Duke states that this filing is in accordance with part 35 of the Commission's Regulations, 18 CFR part 35, and that a copy has been served on the North Carolina Utilities Commission.

Comment Date: July 15, 2002.

14. Duke Electric Transmission

[Docket No. ER02-2144-000]

Take notice that on June 24, 2002, Duke Electric Transmission (Duke), a division of Duke Energy Corporation, tendered for filing with the Federal Energy Regulatory Commission (Commission), a Service Agreement with PG&E Energy Trading-Power L.P., for Non-Firm Transmission Service under Duke's Open Access to become effective on May 15, 2002. Duke states that this filing is in accordance with part 35 of the Commission's Regulations, 18 CFR part 35, and that a copy has been served on the North Carolina Utilities Commission.

Comment Date: July 15, 2002.

15. Entergy Services, Inc.

[Docket No. ER02-2145-000]

Take notice that on June 24, 2002, Entergy Services, Inc., on behalf of Entergy Arkansas, Inc., Entergy Gulf States, Inc., Entergy Louisiana, Inc., Entergy Mississippi, Inc., and Entergy New Orleans, Inc., (collectively, the Entergy Operating Companies) tendered for filing a Long-Term Firm Point-To-Point Transmission Service Agreement between Entergy Services, Inc., as agent for the Entergy Operating Companies, and PG&E Energy Trading—Power, L.P.

Comment Date: July 15, 2002.

16. Entergy Services, Inc.

[Docket No. ER02-2146-000]

Take notice that on June 24, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Select Energy, Inc.

Comment Date: July 15, 2002.

17. Southern California Edison Company

[Docket No. ER02-2147-000]

Take notice that on June 25, 2002, Southern California Edison Company (SCE) tendered for filing revisions to the Amended and Restated Radial Lines Agreement (Agreement) between SCE and AES Huntington Beach L.L.C. (AES).

The revisions to the Agreement reflect the replacement of one set of failed Coupling Capacitor Voltage Transformers (CCVTs) installed on the Ellis No. 2 Line at the Huntington Beach Substation and installation of new CCVTs, which are planned to be in service by December 31, 2002.

Copies of this filing were served upon the Public Utilities Commission of the State of California and AES.

Comment Date: July 16, 2002.

18. Southern California Edison Company

[Docket No. ER02-2148-000]

Take notice that on June 25, 2002, Southern California Edison Company (SCE) submitted a Letter Agreement between SCE and Whitewater Energy Corporation (Whitewater)the Industry Urban Development Agency (Industry).

The Letter Agreement specifies the terms and conditions under which SCE will provide pre-interconnection activities including provides for engineering, design, procurement, and preparation of specifications necessary for SCE to perform the engineering, design, procurement, and preparation of specifications necessary for the interconnection facilities and distribution circuit extension required to provide Distribution Service to Industry by September 30, 2002. engineering, design, and procurement.

Copies of this filing were served upon the Public Utilities Commission of the State of California and Industry.

Comment Date: July 16, 2002.

19. Virginia Electric and Power Company

[Docket No. ER02-2149-000]

Take notice that on June 25, 2002, Virginia Electric and Power Company (the Company) tendered for filing a Service Agreement by Virginia Electric and Power Company to EnergyUSA-TPC Corp. designated as Service Agreement No. 19 under the Company's Wholesale Market-Based Rate Tariff, FERC Electric Tariff, Original Volume No. 6, effective on June 15, 2000. The Company respectfully requests an effective date of June 1, 2002, as requested by the customer.

Copies of the filing were served upon EnergyUSA-TPC Corp., the Virginia State Corporation Commission, and the North Carolina Utilities Commission.

Comment Date: July 16, 2002.

20. Allegeny Energy Service Corporation on behalf of Buchanan Generation, LLC

[Docket No. ER02-2150-000]

Take notice that on June 25, 2002, Allegheny Energy Service Corporation on behalf of Buchanan Generation, LLC (Buchanan) filed Service Agreement No. 1 to add one (1) new Customer to the Market Rate Tariff under which Buchanan offers generation services. Buchanan proposes to make service available as of June 11, 2002 to Allegheny Energy Supply Company, LLC.

Copies of the filing have been provided to the Customer.

Comment Date: July 16, 2002.

21. Just Energy Ohio, LLC

[Docket No. ER02-2151-000]

Take notice that on June 25, 2002, Just Energy Ohio, LLC (Just Energy Ohio) petitioned the Federal Energy Regulatory Commission (Commission), for acceptance of Just Energy Ohio Rate Schedule FERC No. 1; the granting of certain blanket approvals, including the authority to sell electricity at market-based rates; and the waiver of certain Commission regulations.

Just Energy Ohio intends to engage in wholesale electric power and energy purchases and sales as a marketer. Just Energy Ohio is not in the business of generating or transmitting electric power. Just Energy Ohio sells electricity to customers in various deregulated states.

Comment Date: July 16, 2002.

22. MidAmerican Energy Company

[Docket No. ER02-2152-000]

Take notice that on June 25, 2002, MidAmerican Energy Company (MidAmerican) tendered for filing with the Federal Energy Regulatory Commission (Commission), a Service Agreement under Wholesale Market-Based Rate Tariff providing for Sales of Capacity and Energy and Resale of Transmission Rights between MidAmerican and Aquila Energy Marketing Corporation. MidAmerican seeks an effective date of December 1, 2000.

Comment Date: July 16, 2002.

23. ISO New England Inc.

[Docket No. ER02-2153-000]

Take notice that on June 27, 2002, ISO New England Inc. (ISO) made a filing under Section 205 of the Federal Power Act of changes to its Capital Funding Tariff. The ISO requests that the changes to the Capital Funding Tariff be allowed to go into effect on August 1, 2002.

Copies of the transmittal letter were served upon all Participants in the New England Power Pool (NEPOOL), as well as on the governors and utility regulatory agencies of the six New England States, and NECPUC. Participants were also served with the entire filing electronically. The entire filing is posted on the ISO's website (www.iso-ne.com).

Comment Date: July 11, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-17174 Filed 7-8ndash;02; 8:45 am]

BILLING CODE 6717-01-P